DEPARTMENT OF ENERGY

10 CFR Part 431

[EERE-2022-BT-TP-0003 and EERE-2022-STD-0001]

RIN 1904-AE95 and 1904-AE97

Energy Conservation Program: Test Procedure for Dedicated-Purpose Pool Pumps and Energy Conservation Standards for Dedicated-Purpose Pool Pumps; Reopening of Comment Period

AGENCY: Office of Energy Efficiency and Renewable Energy, Department of Energy.

ACTION: Request for information; reopening of public comment period.

SUMMARY: On January 24, 2022, the U.S. Department of Energy (“DOE”) published two requests for information (“RFIs”) regarding dedicated-purpose pool pumps. DOE published a RFI regarding test procedures for dedicated-purpose pool pumps and a RFI regarding energy conservation standards for dedicated-purpose pool pumps. The RFIs each provided an opportunity for submitting written comments, data, and information on the proposal by February 23, 2022. DOE received a request from the Pool and Hut Tub Alliance on February 9, 2022, and a joint request from the Pacific Gas and Electric Company, San Diego Gas and Electric, and Southern California Edison on February 11, 2022, each asking DOE to extend the public comment periods for both RFIs for 30 additional days. DOE has reviewed these requests and is reopening the public comment periods to allow comments to be submitted until March 9, 2022.

DATES: The comment periods for the RFIs published on January 24, 2022 (87 FR 3457; 87 FR 3461) is reopened. DOE will accept comments, data, and information regarding these RFIs received no later than March 9, 2022.

ADDRESSES: Interested persons are encouraged to submit comments using the Federal eRulemaking Portal at www.regulations.gov. Follow the instructions for submitting comments. Alternatively, interested persons may submit comments, identified by docket number EERE-2022-BT-TP-0003 for the test procedure RFI and EERE-2022-BT-STD-0001 for the energy conservation standard RFI, by any of the following methods:

(1) Federal eRulemaking Portal: www.regulations.gov. Follow the instructions for submitting comments.

(2) Email: DPPP2022TP0003@ee.doe.gov for the test procedure RFI. DPPP2022STD0001@ee.doe.gov for the energy conservation standards RFI. For the test procedure RFI, include the docket number EERE-2022-BT-TP-0003 or regulatory information number (“RIN”) 1904-AE95 in the subject line of the message. For the energy conservation standards RFI, include the docket number EERE-2022-BT-STD-0001 or regulatory information number (“RIN”) 1904-AE97 in the subject line of the message.

No telefacsimiles (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The dockets, which includes Federal Register notices, public meeting attendee lists and transcripts (if a public meeting is held), comments, and other supporting documents/materials, are available for review at www.regulations.gov. All documents in the dockets are listed in the www.regulations.gov index. However, some documents listed in the index, such as those containing information that is exempt from public disclosure, may not be publicly available.

The docket web pages can be found at www.regulations.gov/docket?D=EERE-2022-BT-TP-0003 and www.regulations.gov/docket?D=EERE-2020-BT-STD-0001 for dedicated-purpose pool pump test procedure and energy conservation standards, respectively. The docket web pages contain instructions on how to access all documents, including public comments, in each docket.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC, 20585-0121. Telephone: (202) 586-2588; Email: amelia.whiting@hq.doe.gov.

For further information on how to submit a comment or review other public comments and the docket contact the Appliance and Equipment Standards Program staff at (202) 287-1445 or by email: ApplianceStandardsQuestions@ee.doe.gov.

SUPPLEMENTARY INFORMATION: On January 24, 2022, DOE published a RFI undertaking a review to determine whether amendments are warranted for the test procedure for dedicated-purpose pool pumps. 87 FR 3457. DOE identified certain issues associated with the currently applicable test procedure on which DOE is interested in receiving comment. 87 FR 3457, 3459-3461. On this date, DOE also published a RFI initiating an effort to determine whether to amend the current energy conservation standards for dedicated-purpose pool pumps. 87 FR 3461 (January 24, 2022) The RFI solicits information from the public to help DOE determine whether amended standards for dedicated-purpose pool pumps would result in significant energy savings and whether such standards would be technologically feasible and economically justified. 87 FR 3461. Both RFIs had a comment period deadline that closed on February 23, 2022.

Interested parties in the matter, the Pool and Hot Tub Alliance (“PHTA”) requested an extension of the public comment period for 30 additional days to give time to properly respond to the technical nature of the questions posed in both RFIs. PHTA explained that without the extension, the industry will be unable to provide all the data and information being requested within the current comment period. (PHTA, EERE-2022-BT-TP-0003, No. 3 at p. 1; PHTA, EERE-2022-BT-STD-0001, No. 3 at p. 1) ¹ Also, the Pacific Gas and Electric Company, San Diego Gas and Electric, and Southern California Edison (“Joint Requesters”) requested an extension of the public comment period for both RFIs for 30 additional days. The joint requestors commented that the extension is necessary due to the extent of research and outreach needed to adequately respond to the RFIs and that they support PHTA in the request for an additional 30-day extension. (Joint Requesters, EERE-2022-BT-TP-0003, No. 2 at p. 1, Joint Requesters, EERE-2022-BT-STD-0001, No. 2 at p.1)

¹ The parenthetical reference provides a reference for information located in DOE's rulemaking dockets. (Docket No. EERE-2022-BT-TP-0003 which is maintained at www.regulations.gov/#!docketDetail;D=EERE-2022-BT-TP-0003 and Docket No. EERE-2022-BT-STD-0001 which is maintained at www.regulations.gov/#!docketDetail;D=EERE-2022-BT-STD-0001). The references are arranged as follows: (Commenter name, comment docket ID number, page of that document).

DOE has reviewed the requests and is reopening the comment period to allow additional time for interested parties to submit comments. In light of the submitted requests, DOE believes that additional time is warranted, and that reopening the comment period until March 9, 2022 is sufficient. Therefore, DOE is reopening the comment period for both RFIs until March 9, 2022.

Signing Authority

This document of the Department of Energy was signed on February 17, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 22, 2022.
Treena V. Garrett,
Federal Register Liaison Officer, U.S. Department of Energy.

[FR Doc. 2022-04050 Filed 2-24-22; 8:45 am]

BILLING CODE 6450-01-P